DEPARTMENT OF THE INTERIOR

Fish and Wildlife Service

Notice of Meetings of the Klamath River Basin Fisheries Task Force

AGENCY: Fish and Wildlife Service, Interior.

ACTION: Notice of meeting.

SUMMARY: Pursuant to section 10(a)(2) of the Federal Advisory Committee Act (5 U.S.C. App. I), this notice announces meetings of the Klamath River Basin Fisheries Task Force (Task Force), established under the authority of the Klamath River Basin Fishery Resources Restoration Act (16 U.S.C. 460ss et seq.). The meetings are open to the public. The purpose of the meetings is to continue providing recommendations from the affected interests to the Department of the Interior on implementation of their program to restore anadromous fisheries, including salmon and steelhead, of the Klamath River in California and Oregon.

DATES: The first meeting will be from 9 a.m. to 5 p.m. on February 19, 2003, and from 8 a.m. to 1 p.m. on February 20, 2003. The second meeting will be from 9 a.m. to 5 p.m. on June 18, 2003, and from 8 a.m. to 1 p.m. on June 19, 2003. The third meeting will be from 9 a.m. to 5 p.m. on October 22, 2003, and from 8 a.m. to 1 p.m. on October 23, 2003.

ADDRESSES: The first meeting will be held at the Best Western Beachfront Inn, 16008 Boat Basin Road, Brookings, Oregon. The second meeting will be held at the North Coast Inn, 4975 Valley West Blvd, Arcata, California. The third meeting will be held at the Convention Center, Best Western Miner's Inn, 112 E. Miner Street, Yreka, California.

FOR FURTHER INFORMATION CONTACT: Phil Detrich, Project Leader, U.S. Fish and Wildlife Service, 1829 South Oregon Street, Yreka, California 96097, telephone (530) 842-5763.

SUPPLEMENTARY INFORMATION: For background information on the Task Force, please refer to the notice of their initial meeting that appeared in the Federal Register on July 8, 1987 (52 FR 25639).

Dated: December 11, 2002.
John Engbring,
Manager, California/Nevada Operations Office, Sacramento, CA.

[FR Doc. 02-31780 Filed 12-17-02; 8:45 am]

BILLING CODE 4310-55-P